DEPARTMENT OF THE TREASURY

Agency Information Collection Activities; Submission for OMB Review; Comment Request; Generic Clearance for Voluntary Surveys To Implement E.O. 12862

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before March 28, 2018 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW, Suite 8142, Washington, DC 20220, or email at PRA@treasury.gov.

FOR FURTHER INFORMATION CONTACT: Copies of the submissions may be obtained from Jennifer Quintana by emailing PRA@treasury.gov, calling (202) 622-0489, or viewing the entire information collection request at www.reginfo.gov.

SUPPLEMENTARY INFORMATION:

United States Mint

Title: Generic Clearance for Voluntary Surveys to Implement E.O. 12862.

OMB Control Number: 1525-0012.

Type of Review: Extension without change of a currently approved collection.

Abstract: This is a renewal for Generic Clearance for an undefined number of customer satisfaction and opinion surveys or focus group interviews to be conducted over the next three years. The information collected from these surveys will be used to improve United States Mint products and services.

Form: None.

Affected Public: Individuals and households.

Estimated Total Annual Burden Hours: 40,000.

Authority: 44 U.S.C. 3501 et seq.

Dated: February 21, 2018.
Spencer W. Clark,
Treasury PRA Clearance Officer.

[FR Doc. 2018-03832 Filed 2-23-18; 8:45 am]

BILLING CODE 4810-37-P